DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 15, 2007.

Interested persons are invited to submit written comments regarding the subject matter of the investigations to the Director, Division of Trade Adjustment Assistance, at the address shown below, not later than October 15, 2007.

The petitions filed in this case are available for inspection at the Office of the Director, Division of Trade Adjustment Assistance, Employment and Training Administration, U.S. Department of Labor, Room C-5311, 200 Constitution Avenue, NW., Washington, DC 20210.

Signed at Washington, DC, this 25th day of September 2007.
Ralph DiBattista,
Director, Division of Trade Adjustment Assistance.

Appendix—TAA
[Petitions instituted between 9/17/07 and 9/21/07]
TA—W | Subject Firm (petitioners) | Location | Date of institution | Date of petition
62147 | Information Systems Network (Comp) | Buckhead, GA | 09/17/07 | 09/14/07
62148 | Unicare Insurance Co. (Wkrs) | Bolingbrook, IL | 09/17/07 | 09/13/07
62149 | Aptara (Comp) | York, PA | 09/17/07 | 09/13/07
62150 | Qiagen (State) | Plymouth, MN | 09/17/07 | 09/14/07
62151 | Johnson Controls (Wkrs) | Plymouth, MI | 09/17/07 | 09/14/07
62152 | Interlock Industries (Wkrs) | Nile, OH | 09/17/07 | 09/10/07
62153 | ITT Marine and Leisure (State) | Santa Ana, CA | 09/18/07 | 09/17/07
62154 | Taylor Togs, Inc. (Comp) | Taylorsville, NC | 09/18/07 | 09/17/07
62155 | Daws Manufacturing Co., Inc. (Comp) | Pensacola, FL | 09/18/07 | 09/04/07
62156 | Hypercom (State) | Phoenix, AZ | 09/18/07 | 09/14/07
62157 | Johnston Textiles, Inc. (Comp) | Opp, AL | 09/18/07 | 09/17/07
62158 | Intel (Wkrs) | Rio Rancho, NM | 09/18/07 | 09/10/07
62159 | Chicago Miniature Lighting (State) | Hackensack, NJ | 09/19/07 | 08/27/07
62160 | Data Products USA (State) | Clexico, CA | 09/19/07 | 09/12/07
62161 | Tifton Aluminum Company (Comp) | Tifton, GA | 09/19/07 | 09/18/07
62162 | Barn Door Furniture Company (The) (Comp) | Henderson, NC | 09/19/07 | 09/18/07
62163 | Smart Novelty Blouse Co., Inc. (Wkrs) | New York, NY | 09/19/07 | 09/17/07
62164 | Huntleigh Healthcare, LLC (Comp) | Eatontown, NJ | 09/19/07 | 09/18/07
62165 | Omni Futon (Wkrs) | Spring Green, WI | 09/19/07 | 09/13/07
62166 | Thompson Scientific (State) | Cherry Hill, NJ | 09/19/07 | 09/18/07
62167 | Dura Automotive Systems, Inc. (Comp) | Jacksonville, FL | 09/19/07 | 09/10/07
62168 | Sensata Technologies (Comp) | Standish, ME | 09/19/07 | 09/17/07
62169 | Flexaust Company, Inc. (Comp) | El Paso, TX | 09/20/07 | 09/14/07
62170 | United Machine Works, Inc. (Wkrs) | Greenville, NC | 09/20/07 | 09/12/07
62171 | Everett Charles Technologies (Wkrs) | Clifton Park, NY | 09/20/07 | 09/11/07
62172 | Carhartt Inc. (Comp) | Galesburg, IL | 09/20/07 | 09/19/07
62173 | United Memorial Bible Services (Wkrs) | Gastonia, NC | 09/20/07 | 09/19/07
62174 | Penn Union Corporation (Comp) | Edinboro, PA | 09/20/07 | 09/12/07
62175 | Masys Corporation (Comp) | Minneapolis, MN | 09/20/07 | 09/14/07
62176 | First American Corporation (Wkrs) | Flint, MI | 09/20/07 | 09/19/07
62177 | ASF Keystone, Inc. (USW) | Granite City, IL | 09/21/07 | 09/20/07
62178 | Alloc Inc (Comp) | Racine, WI | 09/21/07 | 09/20/07
62179 | Desa LLC (Comp) | Manchester, TN | 09/21/07 | 09/20/07
62180 | Cooper Standard Automotive (Comp) | Archbold, OH | 09/21/07 | 09/20/07
62181 | Louisiana Pacific Corporation (State) | Hines, OR | 09/21/07 | 09/19/07
62182 | Ideal Tool Inc. (Wkrs) | Meadville, PA | 09/21/07 | 09/18/07
62183 | Hartmann (Comp) | Lebanon, TN | 09/21/07 | 09/19/07
62184 | Mark Eyelet, Inc. (State) | Watertown, CT | 09/21/07 | 09/20/07
62185 | Halco (Wkrs) | Belle Vernon, PA | 09/21/07 | 09/20/07
62186 | TRW Automotive (AFLCIO) | Lebanon, TN | 09/21/07 | 09/20/07
62187 | Bock, USA Inc (State) | Monroe, CT | 09/21/07 | 09/20/07
62188 | Nortel (Wkrs) | Research Triangle Park, NC | 09/21/07 | 09/12/07

[FR Doc. E7-19478 Filed 10-2-07; 8:45 am]

BILLING CODE 4510-FN-P